DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 17, 2024. See Supplementary Information for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On December 17, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. KARPAVICIUS, Rokas (a.k.a. KARPIS, Rokas), Lithuania; Santa Cruz de Tenerife, Spain; DOB 04 Jan 1980; POB Lithuania; nationality Lithuania; Gender Male (individual) [ILLICIT-DRUGS-EO14059].

Designated pursuant to section (1)(a)(i) of E.O. 14059 for having engaged in, or attempted to engage in, activities or transactions that have materially contributed to, or pose a significant risk of contributing to, the international proliferation or illicit drugs or their means of production.

2. GRINEVICIUS, Arnas, Lithuania; DOB 07 Dec 1976; POB Lithuania; nationality Lithuania; Gender Male (individual) [ILLICIT-DRUGS-EO14059] (Linked To: DRAGON SECURE GMBH).

Designated pursuant to section (1)(b)(ii) of E.O. 14059 for being or having been a leader or official of Dragon Secure GMBH, a person sanctioned pursuant to E.O. 14059.

3. KARPE, Jurga, Spain; DOB 29 Mar 1981; nationality Lithuania; Gender Female (individual) [ILLICIT-DRUGS-EO14059] (Linked To: KARPIS AG).

Designated pursuant to section (1)(b)(ii) of E.O. 14059 for being or having been a leader or official of Karpis AG, a person sanctioned pursuant to E.O. 14059.

4. LABUTIS, Virginijus (a.k.a. LABUTIS, Victor), Lithuania; DOB 16 Feb 1972; POB Lithuania; nationality Lithuania; Gender Male (individual) [ILLICIT-DRUGS-EO14059].

Designated pursuant to section (1)(a)(i) of E.O. 14059 for having engaged in, or attempted to engage in, activities or transactions that have materially contributed to, or pose a significant risk of contributing to, the international proliferation or illicit drugs or their means of production.

5. BETANCOURT ROSERO, Camilo Esteban, Colombia; DOB 28 Nov 1990; POB Tumaco, Colombia; nationality Colombia; Gender Male; Cedula No. 1126864728 (Colombia) (individual) [ILLICIT-DRUGS-EO14059].

Designated pursuant to section (1)(a)(i) of E.O. 14059 for having engaged in, or attempted to engage in, activities or transactions that have materially contributed to, or pose a significant risk of contributing to, the international proliferation or illicit drugs or their means of production.

6. LEUNG, Ho Kai (a.k.a. LEUNG, Ho-Kar; a.k.a. “LEUNG, Jackie”), New Zealand; DOB 19 Aug 1978; nationality New Zealand; Gender Male (individual) [ILLICIT-DRUGS-EO14059].

Designated pursuant to section (1)(a)(i) of E.O. 14059 for having engaged in, or attempted to engage in, activities or transactions that have materially contributed to, or pose a significant risk of contributing to, the international proliferation or illicit drugs or their means of production.

7. PERRILLA SANDOVAL, Allende, Colombia; DOB 25 Mar 1990; POB San Jose Del Guaviare, Guaviare, Colombia; nationality Colombia; Gender Male; Cedula No. 1061741639 (Colombia) (individual) [ILLICIT-DRUGS-EO14059].

Designated pursuant to section (1)(a)(i) of E.O. 14059 for having engaged in, or attempted to engage in, activities or transactions that have materially contributed to, or pose a significant risk of contributing to, the international proliferation or illicit drugs or their means of production.

8. STASKUS, Saulius (a.k.a. STASKUS, Soulius; a.k.a. STAUSKAS, Soulius), Lithuania; DOB 09 Mar 1963; POB Lithuania; nationality Lithuania; Gender Male (individual) [ILLICIT-DRUGS-EO14059].

Designated pursuant to section (1)(a)(i) of E.O. 14059 for having engaged in, or attempted to engage in, activities or transactions that have materially contributed to, or pose a significant risk of contributing to, the international proliferation or illicit drugs or their means of production.

9. THACKRAY, David Jonathan, Australia; DOB 08 Aug 1980; POB Australia; nationality Australia; Gender Male (individual) [ILLICIT-DRUGS-EO14059].

Designated pursuant to section (1)(a)(i) of E.O. 14059 for having engaged in, or attempted to engage in, activities or transactions that have materially contributed to, or pose a significant risk of contributing to, the international proliferation or illicit drugs or their means of production.

10. CASARRUBIA POSADA, Elkin (a.k.a. “Cura”; a.k.a. “Joaquin”), Colombia; DOB 15 Jun 1968; POB Arboletes, Antioquia, Colombia; nationality Colombia; Gender Male; Cedula No. 78702064 (Colombia) (individual) [ILLICIT-DRUGS-EO14059] (Linked To: CLAN DEL GOLFO).

Designated pursuant to section (1)(b)(iii) of E.O. 14059 for being owned, controlled, or directed by, or having acted or purported to act for or on behalf of, directly or indirectly, Clan Del Golfo, a person sanctioned pursuant to E.O. 14059.

11. OSTEN BLANCO, Orozman Orlando (a.k.a. “Rodrigo Flechas”), Colombia; DOB 11 Mar 1970; nationality Colombia; Gender Male; Cedula No. 98596602 (Colombia) (individual) [ILLICIT-DRUGS-EO14059] (Linked To: CLAN DEL GOLFO).

Designated pursuant to section (1)(b)(iii) of E.O. 14059 for being owned, controlled, or directed by, or having acted or purported to act for or on behalf of, directly or indirectly, Clan Del Golfo, a person sanctioned pursuant to E.O. 14059.

12. PEREZ CASTANEDA, Luis Armando (Latin: PEREZ CASTAÑEDA, Luis Armando) (a.k.a. “Bruno”), Colombia; DOB 02 Oct 1991; POB Apartado, Antioquia, Colombia; nationality Colombia; Gender Male; Cedula No. 71941532 (Colombia) (individual) [ILLICIT-DRUGS-EO14059] (Linked To: CLAN DEL GOLFO).

Designated pursuant to section (1)(b)(iii) of E.O. 14059 for being owned, controlled, or directed by, or having acted or purported to act for or on behalf of, directly or indirectly, Clan Del Golfo, a person sanctioned pursuant to E.O. 14059.

Entities

1. ATIYA S A S, Calle 11 43B 50, Medellin, Antioquia, Colombia; Organization Established Date 28 May 2020; Organization Type: Real estate activities with own or leased property; NIT # 9013841731 (Colombia) [ILLICIT-DRUGS-EO14059] (Linked To: LABUTIS, Virginijus).

Designated pursuant to section (1)(b)(iii) of E.O. 14059 for being owned, controlled, or directed by, or having acted or purported to act for or on behalf of, directly or indirectly, Virginijus Labutis, a person sanctioned pursuant to E.O. 14059.

2. DRAGON SECURE GMBH (a.k.a. “KRADEN”; a.k.a. “SKYDA”), Banhofstrasse 20, Zug 6300, Switzerland; website www.kraden.com; alt. Website Skyda.co; Organization Established Date 03 Mar 2022; Organization Type: Computer programming activities; alt. Organization Type: Wireless telecommunications activities; Tax ID No. 280091217 (Switzerland); Registration Number CH-170.4.019.396-6 (Switzerland) [ILLICIT-DRUGS-EO14059] (Linked To: KARPAVICIUS, Rokas).

Designated pursuant to section (1)(b)(iii) of E.O. 14059 for being owned, controlled, or directed by, or having acted or purported to act for or on behalf of, directly or indirectly, Rokas Karpavicius, a person sanctioned pursuant to E.O. 14059.

3. KARPIS AG, Banhofstrasse 20, Zug 6300, Switzerland; Organization Established Date 14 Dec 2021; Organization Type: Other financial service activities, except insurance and pension funding activities, n.e.c.; Tax ID No. 181046704 (Switzerland); Legal Entity Number 875500KMMBZ815XS0H29; Registration Number CH-170.3.046.619-4 (Switzerland) [ILLICIT-DRUGS-EO14059] (Linked To: KARPAVICIUS, Rokas).

Designated pursuant to section (1)(b)(iii) of E.O. 14059 for being owned, controlled, or directed by, or having acted or purported to act for or on behalf of, directly or indirectly, Rokas Karpavicius, a person sanctioned pursuant to E.O. 14059.

4. LAKE FOREST SP Z O O (a.k.a. LAKE FOREST SPOLKA Z OGRANICZONA ODPOWIEDZIALNOSCIA (Latin: LAKE FOREST SPÓŁKA Z OGRANICZONĄ ODPOWIEDZIALNOŚCIĄ)), Ul. Solec 18, b21, Warsaw 00-410, Poland; Organization Established Date 12 May 2017; Organization Type: Wholesale and retail trade; Tax ID No. 5272808753 (Poland); Registration Number 367279905 (Poland) [ILLICIT-DRUGS-EO14059] (Linked To: KARPAVICIUS, Rokas).

Designated pursuant to section (1)(b)(iii) of E.O. 14059 for being owned, controlled, or directed by, or having acted or purported to act for or on behalf of, directly or indirectly, Rokas Karpavicius, a person sanctioned pursuant to E.O. 14059.

5. MB PTERA (a.k.a. SB PTERA), Eduardo Andre G. 14-5, Vilnius 02232, Lithuania; Organization Established Date 16 Sep 2022; Organization Type: Computer programming activities; Registration Number 306147387 (Lithuania) [ILLICIT-DRUGS-EO14059] (Linked To: GRINEVICIUS, Arnas).

Designated pursuant to section (1)(b)(iii) of E.O. 14059 for being owned, controlled, or directed by, or having acted or purported to act for or on behalf of, directly or indirectly, Arnas Grinevicius, a person sanctioned pursuant to E.O. 14059.

6. UAB FLAVOUR LABS, Eduardo Andre G. 14-5, Vilnius 02232, Lithuania; Organization Established Date 18 May 2021; Organization Type: Professional, scientific, and technical activities; Registration Number 305769920 (Lithuania) [ILLICIT-DRUGS-EO14059] (Linked To: GRINEVICIUS, Arnas).

Designated pursuant to section (1)(b)(iii) of E.O. 14059 for being owned, controlled, or directed by, or having acted or purported to act for or on behalf of, directly or indirectly, Arnas Grinevicius, a person sanctioned pursuant to E.O. 14059.

7. JT TRADING LIMITED (a.k.a. JT TRADING LTD), 210b Marua Road, Mount Wellington, Auckland 1051, New Zealand; Organization Established Date 20 May 2016; Organization Type: Wholesale and retail trade; alt. Organization Type: Maintenance and repair of motor vehicles; Company Number 6002468 (New Zealand); Business Number 9429042364061 (New Zealand) [ILLICIT-DRUGS-EO14059] (Linked To: LEUNG, Ho Kai).

Designated pursuant to section (1)(b)(iii) of E.O. 14059 for being owned, controlled, or directed by, or having acted or purported to act for or on behalf of, directly or indirectly, Ho Kai Leung, a person sanctioned pursuant to E.O. 14059.

8. TNK TRADING LIMITED, 1515/1 Courthouse Lane, Auckland, New Zealand; Organization Established Date 15 Feb 2017; Organization Type: Sale of motor vehicles; Company Number 6230071 (New Zealand); Business Number 9429045946462 (New Zealand) [ILLICIT-DRUGS-EO14059] (Linked To: LEUNG, Ho Kai).

Designated pursuant to section (1)(b)(iii) of E.O. 14059 for being owned, controlled, or directed by, or having acted or purported to act for or on behalf of, directly or indirectly, Ho Kai Leung, a person sanctioned pursuant to E.O. 14059.

Lisa M. Palluconi,
Acting Director, Office of Foreign Assets Control.

[FR Doc. 2024-30512 Filed 12-20-24; 8:45 am]

BILLING CODE 4810-AL-P